DEPARTMENT OF DEFENSE

Defense Logistics Agency

Privacy Act of 1974; Systems of Records

AGENCY: Defense Logistics Agency, DoD.

ACTION: Notice to alter systems of records.

SUMMARY: The Defense Logistics Agency proposes to alter a system of records notice in its inventory of record systems subject to the Privacy Act of 1974 (5 U.S.C. 552a), as amended. The alteration consists of adding new records being maintained and the purpose(s) therefore, and revises two existing routine uses.

DATES: This action will be effective without further notice on December 18, 2003, unless comments are received that would result in a contrary determination.

ADDRESSES: Send comments to the Privacy Act Officer, Headquarters, Defense Logistics Agency, ATTN: DSS-B, 8725 John J. Kingman Road, Suite 2533, Fort Belvior, VA 22060-6221.

FOR FURTHER INFORMATION CONTACT: Ms. Susan Salus at (703) 767-6183.

SUPPLEMENTARY INFORMATION: The Defense Logistics Agency notices for systems of records subject to the Privacy Act of 1974 (5 U.S.C. 552a), as amended, have been published in the Federal Register and are available from the address above.

The proposed system report, as required by 5 U.S.C. 552a(r) of the Privacy Act of 1974, as amended, was submitted on October 28, 2003, to the House Committee on Government Reform, the Senate Committee on Governmental Affairs, and the Office of Management and Budget (OMB) pursuant to paragraph 4c of Appendix I to OMB Circular No. A-130, ‘Federal Agency Responsibilities for Maintaining Records About Individuals,’ dated February 8, 1996 (February 20, 1996, 61 FR 6427).

Dated: November 7, 2003.
Patricia L. Toppings,
Alternate OSD Federal Register Liaison Officer, Department of Defense.

S335.01 CAH

System name:

Training and Employee Development Record System (August 3, 1999, 64 FR 42101).

Changes:

System identifier:

Delete ‘CAH’ from entry.

* * * * *

Categories of records in the system:

Delete ‘home addresses’ and replace with ‘geographic and electronic home addresses”. Add a new sentence to read ‘Electronic records may contain computer logon and password data.”

* * * * *

Authority for maintenance of the system:

Delete entry and replace with ‘5 U.S.C. chapter 41, The Government Employees Training Act; 10 U.S.C. 1701 et seq., Defense Acquisition Workforce Improvement Act; E.O. 9397 (SSN); E.O. 11348, Providing for the further training of Government employees, as amended by E.O. 12107, Relating to the Civil Service Commission and labor-management in the Federal Service; 5 CFR part 410, Office of Personnel Management-Training.”

* * * * *

Purpose(s):

Delete entry and replace with ‘Information is used to manage and administer training and development programs; to identify individual training needs; to screen and select candidates for training; and for reporting and financial forecasting, tracking, monitoring, assessing, and payment reconciliation purposes. Statistical data, with all personal identifiers removed, are used to compare hours and costs allocated to training among different DLA activities and different types of employees.”

* * * * *

Routine uses of records maintained in the system, including categories of users and the purposes of such uses:

Replace fourth paragraph with ‘To Federal, state, and local agencies and oversight entities to track, manage, and report on mandatory training requirements and certifications.’

In the fifth paragraph, delete ‘and evaluation purposes’ and replace with ‘evaluation, and payment reconciliation purposes.’

* * * * *

Retrievability:

Delete entry and replace with ‘Automated records may be retrieved by Social Security Number, name, logon identification, password, or by a combination of these data elements. Manual records are retrieved by employee last name or Social Security Number.’

* * * * *

Safeguards:

Delete entry and replace with ‘Records are maintained in physical and electronic areas accessible only to DLA personnel who must use the records to perform assigned duties. Physical access is limited through the use of locks, guards, card swipe, and other administrative procedures. The electronic records are deployed on accredited systems with access restricted by the use of login, password, and/or card swipe protocols. The web-based files are encrypted in accordance with approved information assurance protocols. Employees are warned through screen log-on protocols and periodic briefings of the consequences of improper access or use of the data. In addition, users are trained to lock or shutdown their workstations when leaving the work area. During non-duty hours, records are secured in access-controlled buildings, offices, cabinets or computer systems.’

* * * * *

Retention and disposal:

Replace the semicolon after ‘sooner’ with a period and strike the remainder of the sentence. Add as a new last sentence ‘Employee agreements, individual training plans, progress reports, and similar records used in intern, upward mobility, career management, and similar developmental training programs are destroyed 1 year after employee has completed the program.’

* * * * *

S335.01

System name:

Training and Employee Development Record System.

System location:

The master file is maintained by the Director, Defense Logistics Agency Training Center, Building 11, Section 5, 3990 E. Broad Street, Columbus, OH 43216-5000. Subsets of the master file are maintained by DLA Support Services, Business Management Office, 8725 John J. Kingman Road, Stop 6220, Fort Belvoir, VA 22060-6221; the DLA field level activities; and individual supervisors. Official mailing addresses of the DLA field level activities are published as an appendix to DLA’s compilation of systems of records notice.

Categories of individuals covered by the system:

Defense Logistics Agency (DLA) employees and individuals receiving training funded or sponsored by DLA. Department of Defense military personnel and non-appropriated fund personnel may be included in the system at some DLA locations.

Categories of records in the system:

Name; Social Security Number; date of birth, geographic and electronic home addresses; occupational series, grade, and supervisory status; registration and training data, including application or nomination documents, pre- and post-test results, student progress data, start and completion dates, course descriptions, funding sources and costs, student goals, long- and short-term training needs, and related data. The files may contain employee agreements and details on personnel actions taken with respect to individuals receiving apprentice or on-the-job training. Where training is required for professional licenses, certification, or recertification, the file may include proficiency data in one or more skill areas. Electronic records may contain computer logon and password data.

Authority for maintenance of the system:

5 U.S.C. chapter 41, The Government Employees Training Act; 10 U.S.C. 1701 et seq., Defense Acquisition Workforce Improvement Act; E.O. 9397 (SSN); E.O. 11348, Providing for the further training of Government employees, as amended by E.O. 12107, Relating to the Civil Service Commission and labor-management in the Federal Service; 5 CFR part 410, Office of Personnel Management-Training.

Purpose(s):

Information is used to manage and administer training and development programs; to identify individual training needs; to screen and select candidates for training; and for reporting and financial forecasting, tracking, monitoring, assessing, and payment reconciliation purposes. Statistical data, with all personal identifiers removed, are used to compare hours and costs allocated to training among different DLA activities and different types of employees.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To the Department of Veterans Affairs for inspecting, surveying, auditing, or evaluating apprentice or on-the-job training programs.

To the Department of Labor for inspecting, surveying, auditing, or evaluating apprentice training programs and other programs under its jurisdiction.

To Federal, State, and local agencies and oversight entities to track, manage, and report on mandatory training requirements and certifications.

To public and private sector educational, training, and conferencing entities for participant enrollment, tracking, evaluation, and payment reconciliation purposes.

To Federal agencies for screening and selecting candidates for training or developmental programs sponsored by the agency.

To Federal oversight agencies for investigating, reviewing, resolving, negotiating, settling, or hearing complaints, grievances, or other matters under its cognizance.

The DoD ‘Blanket Routine Uses’ set forth at the beginning of DLA's compilation of systems of records notices apply to this system.

Policies and practices for storing, retrieving, accessing, retaining, and disposing of records in the system:

Storage:

Records are stored in paper and electronic form.

Retrievability:

Automated records may be retrieved by Social Security Number, name, logon identification, password, or by a combination of these data elements. Manual records are retrieved by employee last name or Social Security Number.

Safeguards:

Records are maintained in physical and electronic areas accessible only to DLA personnel who must use the records to perform assigned duties. Physical access is limited through the use of locks, guards, card swipe, and other administrative procedures. The electronic records are deployed on accredited systems with access restricted by the use of login, password, and/or card swipe protocols. The Web-based files are encrypted in accordance with approved information assurance protocols. Employees are warned through screen log-on protocols and periodic briefings of the consequences of improper access or use of the data. In addition, users are trained to lock or shutdown their workstations when leaving the work area. During non-duty hours, records are secured in access-controlled buildings, offices, cabinets or computer systems.

Retention and disposal:

Training files are destroyed when 5 years old or when superseded, whichever is sooner. Employee agreements, individual training plans, progress reports, and similar records used in intern, upward mobility, career management, and similar developmental training programs are destroyed 1 year after employee has completed the program.

System manager(s) and address:

Director, Defense Logistics Agency Training Center, Building 11, Section 5, 3990 E. Broad Street, Columbus, OH 43216-5000 and Staff Director, Business Management Office, DLA Support Services, ATTN: DSS-B, 8725 John J. Kingman Road, Stop 2635, Fort Belvoir, VA 22060-6221.

Notification procedure:

Individuals seeking to determine whether information about themselves is contained in the master system should address written inquiries to the Privacy Act Officer, Headquarters Defense Logistics Agency, ATTN: DSS-B, 8725 John J. Kingman Road, Stop 6220, Fort Belvoir, VA 22060-6221. Current DLA employees may determine whether information about themselves is contained in subsets to the master file by accessing the system through their assigned DLA computer or by contacting their immediate supervisor.

Record access procedures:

Individuals seeking access to information about themselves contained in the master system should address written inquiries to the Privacy Act Officer, Headquarters Defense Logistics Agency, ATTN: DSS-B, 8725 John J. Kingman Road, Stop 6220, Fort Belvoir, VA 22060-6221, or the Privacy Act Officers at the DLA field level activities. Official mailing addresses are published as an appendix to DLA's compilation of systems of records notices. Current DLA employees may gain access to data contained in subsets to the master file by accessing the system through their assigned DLA computer or by contacting their immediate supervisor.

Contesting record procedures:

The DLA rules for accessing records, for contesting contents and appealing initial agency determinations are contained in DLA Regulation 5400.21, 32 CFR part 323, or may be obtained from the Privacy Act Officer, Headquarters, Defense Logistics Agency, ATTN: DSS-B, 8725 John J. Kingman Road, Stop 6220, Fort Belvoir, VA 22060-6221.

Record source categories:

Information is obtained from the record subject, current and past supervisors, personnel offices, educational and training facilities, and licensing or certifying entities.

Exemptions claimed for the system:

None.

[FR Doc. 03-28704 Filed 11-17-03; 8:45 am]

BILLING CODE 5001-06-P